DEPARTMENT OF TREASURY

Internal Revenue Service

Office of the General Counsel; Appointment of Members of the Legal Division to the Performance Review Board, Internal Revenue Service

Under the authority granted to me as Chief Counsel of the Internal Revenue Service by the General Counsel of the Department of the Treasury by General Counsel Directive 15, pursuant to the Civil Service Reform Act, I have appointed the following persons to the Legal Division Performance Review Board, Internal Revenue Service Panel:

1. Chairperson, Christopher B. Sterner, Deputy Chief Counsel (Operations)

2. John Moriarty, Deputy Associate Chief Counsel (Income Tax and Accounting)

3. Tom Vidano, Deputy Division Counsel (Large Business and International)

4. Mark Kaizen, Associate Chief Counsel (General Legal Services)

5. Marjorie Rollinson, Deputy Associate Chief Counsel (International)

Alternate—Curt Wilson, Associate Chief Counsel, (Passthroughs and Special Industries)

This publication is required by 5 U.S.C. 4314(c)(4).

Date: September 28, 2015.
William J. Wilkins,
Chief Counsel, Internal Revenue Service.

[FR Doc. 2015-25336 Filed 10-5-15; 8:45 am]

BILLING CODE 4830-01-P